COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products and services to the Procurement List that will be furnished by nonprofit agencies employing persons who are blind or have other severe disabilities.

DATES: Comments Must Be Received On or Before: 10/24/2011.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

NSN: M.R. 829—Meat Hammer, Tenderizing.

NPA: Cincinnati Association for the Blind, Cincinnati, OH.

Contracting Activity: Military Resale-Defense Commissary Agency, Fort Lee, VA.

Coverage: C-List for the requirements of military commissaries and exchanges as aggregated by the Defense Commissary Agency.

NSN: M.R. 1018—Scrubber, Non Scratch, Tub and Shower.

NPA: Industries for the Blind, Inc., West Allis, WI.

Contracting Activity: Military Resale-Defense Commissary Agency, Fort Lee, VA.

Coverage: C-List for the requirements of military commissaries and exchanges as aggregated by the Defense Commissary Agency.

Services

Service Types/Locations: Organizational Clothing and Individual Equipment (OCIE), Refurbishment and Warehousing, OCIE West Region.

Note: This service is proposed to be provided from the Travis Association for the Blind's location at 4509 Freidrich Lane, Austin, TX.

NPA: Travis Association for the Blind, Austin, TX.

Contracting Activity: US Army Contracting Command—Warren, Warren, MI.

Service Types/Locations: Organizational Clothing and Individual Equipment (OCIE), Refurbishment and Warehousing, OCIE North East Region.

Note: This service is proposed to be provided from Peckham Vocational Industries' location at 3510 Capital City Blvd., Lansing, MI.

NPA: Peckham Vocational Industries, Inc., Lansing, MI.

Contracting Activity: US Army Contracting Command—Warren, Warren, MI.

Barry S. Lineback,
Director, Business Operations.

[FR Doc. 2011-24462 Filed 9-22-11; 8:45 am]

BILLING CODE 6353-01-P